DEPARTMENT OF TRANSPORTATION

Federal Highway Administration

[Docket No. FHWA-2013-0033]

Agency Information Collection Activities: Request for Comments for a New Information Collection

AGENCY: Federal Highway Administration (FHWA), DOT.

ACTION: Notice and request for comments.

SUMMARY: FHWA invites public comments about our intention to request the Office of Management and Budget's (OMB) approval for a new information collection, which is summarized below under SUPPLEMENTARY INFORMATION. We published a Federal Register Notice with a 60-day public comment period on this information collection on March 22, 2013. We are required to publish this notice in the Federal Register by the Paperwork Reduction Act of 1995.

DATES: Please submit comments by July 22, 2013.

ADDRESSES: You may send comments within 30 days to the Office of Information and Regulatory Affairs, Office of Management and Budget, 725 17th Street NW., Washington, DC 20503, Attention DOT Desk Officer. You are asked to comment on any aspect of this information collection, including: (1) Whether the proposed collection is necessary for the FHWA's performance; (2) the accuracy of the estimated burden; (3) ways for the FHWA to enhance the quality, usefulness, and clarity of the collected information; and (4) ways that the burden could be minimized, including the use of electronic technology, without reducing the quality of the collected information. All comments should include the Docket number FHWA-2013-0033.

FOR FURTHER INFORMATION CONTACT: Shane D. Boone, business phone: 202-493-3064, Nondestructive Evaluation Research Program, Federal Highway Administration, Department of Transportation, 6300 Georgetown Pike, McLean, VA 22101. Office hours are from 8 a.m. to 5 p.m., Monday through Friday, except Federal holidays.

SUPPLEMENTARY INFORMATION:

Title: Feasibility of Element-Level Bridge Inspection for Non-National Highway System Bridges.

Background: The “Moving Ahead for Progress in the 21st Century Act” or the “MAP-21” legislation, Section 1111, modified 23 U.S.C. 144 to include a requirement for each State and appropriate Federal agency to report element level bridge inspection data to the Secretary, as each bridge is inspected, for all highway bridges on the National Highway System (NHS). The data is to be reported to the Federal Highway Administration (FHWA) not later than 2 years after the date of enactment of MAP-21. Additionally, MAP-21 included a requirement for a study on the benefits, cost-effectiveness, and feasibility of requiring element level data collection for bridges not on the NHS. The goal of this project shall be to complete a study of the benefits, cost-effectiveness, and feasibility of requiring element-level bridge inspection data collection for bridges not on the National Highway System. A proposed methodology for completing this research shall be established through outreach to key stakeholders. The methodology is to also define the types of analyses to be used to evaluate benefits, cost-effectiveness and feasibility.

Analysis of Federal Register Notice Comments from the 60-Day Notice

Comments on the March 22, 2013 Federal Register notice were received from thirty commenters. Twenty-two of the commenters represented county agencies, seven represented State Departments of Transportation, and one represented a Federal Agency. Seventeen County representative comments were from Iowa. Two commenters were from the same local agency in Michigan. Nearly all comments focused on the feasibility, benefits, and cost-effectiveness of element level bridge inspection data collection on non-National Highway System (non-NHS) bridges rather than on the actual data collection to be done as part of the legislatively mandated study. The purpose of the notice was to gather comments on the actual data collection to be done during the study. One commenter addressed the study data collection effort. The Iowa Department of Transportation stated that the study is necessary because the FHWA needs to be aware of the unique issues facing the various jurisdictions in the nation. They concurred in the estimate of two hours to respond to questions as part of the study.

They recommended the use of a few standardized questions to help with clarity and usefulness of the data and noted that an on-line response to questions would expedite the collection and analysis of the data. The FHWA will consider these suggestions as it undertakes the study.

The comments that offered opinions on the benefits, costs, and feasibility of element data collection on non-NHS bridges will be considered during the actual study.

Respondents: State transportation agencies, Association of State Highway and Transportation Officials (AASHTO), National Association of County Engineers (NACE), toll authorities (state, local, private), FHWA Offices of Policy, Bridge Technology, and selected FHWA Divisions and other Federal bridge-owning agencies, and selected individual local agencies. Specific AASHTO subcommittees to be contacted include the Subcommittee on Bridges and Structures and the Subcommittee on Maintenance.

Frequency: One time per participant.

Estimated Average Burden per Response: Approximately 2 hours to collect the necessary information and write a response.

Estimated Total Annual Burden Hours: Approximately 200 hours.

Authority: The Paperwork Reduction Act of 1995; 44 U.S.C. Chapter 35, as amended; and 49 CFR 1.48.

Issued on: June 17, 2013.
Michael Howell,
Information Collection Officer.

[FR Doc. 2013-14867 Filed 6-20-13; 8:45 am]

BILLING CODE 4910-22-P